DEPARTMENT OF TRANSPORTATION

Federal Aviation Administration

14 CFR Parts 39

[Docket No. FAA-2008-0788; Directorate Identifier 2008-CE-039-AD; Amendment 39-16313; AD 2010-11-08]

RIN 2120-AA64

Airworthiness Directives; Stemme GmbH & Co. KG Model S10-VT Powered Sailplanes

AGENCY: Federal Aviation Administration (FAA), Department of Transportation (DOT).

ACTION: Final rule.

SUMMARY: We are superseding an existing airworthiness directive (AD) for the products listed above. This AD results from mandatory continuing airworthiness information (MCAI) issued by an aviation authority of another country to identify and correct an unsafe condition on an aviation product. The MCAI describes the unsafe condition as:

AD 2007-0315-E was issued to address a possible fuel leakage in the gear compartment in front of the engine and mandated inspections and replacement of fuel plastic-made connectors by connectors made of metal. Since its publication, another fuel leakage has been reported on a S10-VT which had implemented the STEMME Service Bulletin (SB) A31-10-082 as required by AD 2007-0315-E.

It has been determined that the fuel leak may have been caused by the deformation that the originally installed clamps created on the fuel hoses and thus preventing the new clamps from being sufficiently pinched to perform a correct tightening.

We are issuing this AD to require actions to correct the unsafe condition on these products.

DATES: This AD becomes effective July 6, 2010.

On July 6, 2010, the Director of the Federal Register approved the incorporation by reference of STEMME F & D Service Bulletin A31-10-083, Am-Index: 01.b, dated May 6, 2009, listed in this AD.

As of June 23, 2008 (73 FR 31355, June 2, 2008), the Director of the Federal Register approved the incorporation by reference of STEMME F & D Service Bulletin A31-10-083, Am-Index: 01.a, dated February 26, 2008, listed in this AD.

As of February 20, 2008 (73 FR 5733, January 31, 2008), the Director of the Federal Register approved the incorporation by reference of STEMME F & D Service Bulletin A31-10-082, AM.-Index: 01.a, dated November 30, 2007, listed in this AD.

ADDRESSES: You may examine the AD docket on the Internet at http://www.regulations.gov or in person at the Docket Management Facility, U.S. Department of Transportation, Docket Operations, M-30, West Building Ground Floor, Room W12-140, 1200 New Jersey Avenue, SE., Washington, DC 20590.

FOR FURTHER INFORMATION CONTACT: Greg Davison, Aerospace Engineer, FAA, Small Airplane Directorate, 901 Locust, Room 301, Kansas City, Missouri 64106; telephone: (816) 329-4130; fax: (816) 329-4090.

SUPPLEMENTARY INFORMATION:

Discussion

We issued a notice of proposed rulemaking (NPRM) to amend 14 CFR part 39 to include an AD that would apply to the specified products. That NPRM was published in the Federal Register on July 3, 2008 (73 FR 38160), and proposed to supersede AD 2008-11-20, Amendment 39-15543 (73 FR 31355, June 2, 2008).

AD 2008-11-20 was issued as an interim action in order to address the need for the immediate prevention of leaks in the area of the fuel line.

The European Aviation Safety Agency (EASA), which is the Technical Agent for the Member States of the European Community, issued Emergency AD No. 2008-0053-E, dated March 5, 2008 (referred to after this as “the MCAI”), to correct an unsafe condition for the specified products.

The EASA AD requires mandatory replacement of STEMME part number (P/N) M476 single-ear clamps in the fuel system with P/N 10M-181 single-ear clamps on all affected sailplanes within 12 months after the effective date of the AD.

The Administrative Procedure Act does not permit the FAA to “bootstrap” a long-term requirement into an urgent safety of flight action where the rule becomes effective at the same time the public has the opportunity to comment. The short-term action and the long-term action are analyzed separately for justification to bypass prior public notice.

We are issuing this AD to address the mandatory replacement of all P/Ns M476 in the fuel system with P/Ns 10M-181.

Comments

We gave the public the opportunity to participate in developing this AD. We considered the comment received.

Comment Issue: Allow Installation of a Stainless Steel T- and Y-Connector in the Fuel System in Lieu of a Zinc Metal T- and Y-Connector

Gary Rode requests allowance to install an appropriately sized stainless steel fuel connector fitting instead of the zinc metal connector specified in STEMME F & D Service Bulletin A31-10-083, Am-Index: 01.a, dated February 26, 2008.

Mr. Rode states the zinc metal fuel connector fitting identified in the manufacturer's service bulletin is improperly sized and is made from a material that is susceptible to corrosion. Mr. Rode also states his disagreement with the manufacturer's use of a smaller clamp to alleviate fuel leakage at the fuel connector/hose interface.

Mr. Rode recommends using a specific stainless steel connector that has a larger outside diameter. He states that using a larger diameter connector would provide a better fit when matched with the fuel hose inside diameter, thereby eliminating fuel leakage. Also, using a stainless steel connector would provide greater corrosion resistance.

We agree that the stainless steel connector is an acceptable replacement part. We do not agree that the zinc metal connector is an unsafe part.

We have coordinated Mr. Rode's concerns with the German airworthiness authority (LBA) and the manufacturer. The manufacturer has, in agreement with the LBA, revised STEMME F & D Service Bulletin A31-10-083, Am-Index: 01.a, dated February 26, 2008, to include allowance for installing a stainless steel connector as an optional replacement part.

There has not been any safety issue related to the zinc metal connector reported in Europe or in the United States. Therefore, based on service history, we have elected at this time to not mandate a replacement of the zinc metal connector.

We have changed the final rule AD action to incorporate using STEMME F & D Service Bulletin A31-10-083, Am-Index: 01.b, dated May 6, 2009, which allows installing a zinc metal fuel connector or a stainless steel fuel connector.

Conclusion

We reviewed the available data, including the comment received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

Costs of Compliance

Based on the service information, we estimate that this AD will affect 46 products of U.S. registry. We also estimate that it will take about 3 work-hours per product to comply with the basic requirements of this AD. The average labor rate is $80 per work-hour.

Based on these figures, we estimate the cost of the AD on U.S. operators to be $11,040, or $240 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15543 (73 FR 31355; June 2, 2008), and adding the following new AD:

2010-11-08 Stemme GmbH & Co. KG: Amendment 39-16313; Docket No. FAA-2008-0788; Directorate Identifier 2008-CE-039-AD.

Effective Date

(a) This airworthiness directive (AD) becomes effective July 6, 2010.

Affected ADs

(b) This AD supersedes AD 2008-11-20, Amendment 39-15543.

Applicability

(c) This AD applies to Model S10-VT powered sailplanes, serial numbers 11-001 through 11-112, certificated in any category.

Subject

(d) Air Transport Association of America (ATA) Code 28: Fuel.

Reason

(e) The mandatory continuing airworthiness information (MCAI) states:

AD 2007-0315-E was issued to address a possible fuel leakage in the gear compartment in front of the engine and mandated inspections and replacement of fuel plastic-made connectors by connectors made of metal. Since its publication, another fuel leakage has been reported on a S10-VT which had implemented the STEMME Service Bulletin (SB) A31-10-082 as required by AD 2007-0315-E.

It has been determined that the fuel leak may have been caused by the deformation that the originally installed clamps created on the fuel hoses and thus preventing the new clamps from being sufficiently pinched to perform a correct tightening.

The present Airworthiness Directive (AD) supersedes AD 2007-0315-E and requires you to check the fuel system according to the STEMME SB A31-10-083 as well as to replace single-ear clamps and plastic connectors.

The actions specified by this AD are intended to reduce the potential for a fire to ignite and which could lead to loss of control of the sailplane.

Actions and Compliance

(f) Unless already done, do the following actions:

(1) For all sailplanes affected by this AD, except for serial numbers 11-036, 11-067, 11-068, and 11-090: Before further flight after March 21, 2008 (the compliance date retained from AD 2008-03-06, which was superseded by AD 2008-11-20), replace all plastic T- and Y-connectors in the fuel system with metal connectors. Do the replacements following STEMME F & D Service Bulletin A31-10-082, AM.-Index: 01.a, dated November 30, 2007, or STEMME F & D Service Bulletin A31-10-083, Am-Index: 01.b, dated May 6, 2009.

Note 1: Serial numbers 11-036, 11-067, 11-068, and 11-090 had the plastic T- and Y-connectors in the fuel system replaced with metal connectors by the manufacturer.

(2) For all sailplanes affected by this AD: Before further flight after June 23, 2008 (the compliance date retained from AD 2008-11-20), inspect the fuel system for possible leakage. Do the inspection following STEMME F & D Service Bulletin A31-10-083, Am-Index: 01.a, dated February 26, 2008, or STEMME F & D Service Bulletin A31-10-083, Am-Index: 01.b, dated May 6, 2009.

(3) For all sailplanes affected by this AD: If any leak is found during the inspection required in paragraph (f)(2) of this AD, before further flight, repair the leak following an FAA-approved procedure and replace all STEMME part number (P/N) M476 single-ear clamps in the fuel system with P/N 10M-181 single-ear clamps. Contact the manufacturer at the address specified in paragraph (i)(4) of this AD to obtain an FAA-approved repair procedure. Do the replacements following STEMME F & D Service Bulletin A31-10-083, Am-Index: 01.a, dated February 26, 2008, or STEMME F & D Service Bulletin A31-10-083, Am-Index: 01.b, dated May 6, 2009.

(4) For sailplanes that had P/Ns M476 replaced with P/Ns 10M-181 in compliance with AD 2008-11-20: Before further flight after July 6, 2010 (the effective date of this AD), do a leak test as specified in STEMME F & D Service Bulletin A31-10-083, Am-Index: 01.a, dated February 26, 2008, or STEMME F & D Service Bulletin A31-10-083, Am-Index: 01.b, dated May 6, 2009.

(5) For sailplanes that had P/Ns M476 replaced with P/Ns 10M-181 in compliance with AD 2008-11-20: If a leak is found during the leak test required in paragraph (f)(4) of this AD, before further flight, repair the leak following an FAA-approved procedure. Contact the manufacturer at the address specified in paragraph (i)(4) of this AD to obtain an FAA-approved repair procedure.

(6) For all sailplanes affected by this AD: If no leak is found during the inspection required in paragraph (f)(2) of this AD, within the next 12 months after July 6, 2010 (the effective date of this AD), replace all P/Ns M476 in the fuel system with P/Ns 10M-181. Do the replacements following STEMME F & D Service Bulletin A31-10-083, Am-Index: 01.a, dated February 26, 2008, or STEMME F & D Service Bulletin A31-10-083, Am-Index: 01.b, dated May 6, 2009.

(7) For all sailplanes affected by this AD: Before further flight after doing the replacement required in paragraph (f)(6) of this AD, do a leak test as specified in STEMME F & D Service Bulletin A31-10-083, Am-Index: 01.a, dated February 26, 2008, or STEMME F & D Service Bulletin A31-10-083, Am-Index: 01.b, dated May 6, 2009.

(8) For all sailplanes affected by this AD: If a leak is found during the leak test required in paragraph (f)(7) of this AD, before further flight, repair the leak following an FAA-approved procedure. Contact the manufacturer at the address specified in paragraph (i)(4) of this AD to obtain an FAA-approved repair procedure.

(9) For all sailplanes affected by this AD: After June 23, 2008 (the compliance date retained from AD 2008-11-20), do not install plastic “T” and “Y” shape connectors and P/N M476 single-ear clamps in the fuel system.

FAA AD Differences

Note 2: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: Greg Davison, Aerospace Engineer, FAA, Small Airplane Directorate, 901 Locust, Room 301, Kansas City, Missouri 64106; telephone: (816) 329-4130; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et. seq.), the Office of Management and Budget (OMB) has approved the information collection requirements and has assigned OMB Control Number 2120-0056.

Related Information

(h) Refer to MCAI European Aviation Safety Agency (EASA) Emergency AD No. 2008-0053-E, dated March 5, 2008; STEMME F & D Service Bulletin A31-10-082, AM.-Index: 01.a, dated November 30, 2007; STEMME F & D Service Bulletin A31-10-083, Am-Index: 01.a, dated February 26, 2008; and STEMME F & D Service Bulletin A31-10-083, Am-Index: 01.b, dated May 6, 2009, for related information.

Material Incorporated by Reference

(i) You must use STEMME F & D Service Bulletin A31-10-082, AM.-Index: 01.a, dated November 30, 2007; STEMME F & D Service Bulletin A31-10-083, Am-Index: 01.a, dated February 26, 2008; and STEMME F & D Service Bulletin A31-10-083, Am-Index: 01.b, dated May 6, 2009, to do the actions required by this AD, unless the AD specifies otherwise.

(1) The Director of the Federal Register approved the incorporation by reference of STEMME F & D Service Bulletin A31-10-083, Am-Index: 01.b, dated May 6, 2009, under 5 U.S.C. 552(a) and 1 CFR part 51.

(2) On June 23, 2008 (73 FR 31355, June 2, 2008), the Director of the Federal Register previously approved the incorporation by reference of STEMME F & D Service Bulletin A31-10-083, Am-Index: 01.a, dated February 26, 2008, listed in this AD.

(3) On February 20, 2008 (73 FR 5733, January 31, 2008), the Director of the Federal Register previously approved the incorporation by reference of STEMME F & D Service Bulletin A31-10-082, AM.-Index: 01.a, dated November 30, 2007, listed in this AD.

(4) For service information identified in this AD, contact STEMME GmbH & Co. KG, Flugplatzstraße F 2, Nr. 7, 15344 Strausberg, Federal Republic of Germany; Internet: http://www.stemme.de/man/.

(5) You may review copies of the service information incorporated by reference for this AD at the FAA, Central Region, Office of the Regional Counsel, 901 Locust, Kansas City, Missouri 64106. For information on the availability of this material at the Central Region, call (816) 329-3768.

(6) You may also review copies of the service information incorporated by reference for this AD at the National Archives and Records Administration (NARA). For information on the availability of this material at NARA, call (202) 741-6030, or go to: http://www.archives.gov/federal_register/code_of_federal_regulations/ibr_locations.html.

Issued in Kansas City, Missouri, on May 18, 2010.
John Colomy,
Acting Manager, Small Airplane Directorate, Aircraft Certification Service.

[FR Doc. 2010-12443 Filed 5-28-10; 8:45 am]

BILLING CODE 4910-13-P